DEPARTMENT OF THE INTERIOR

National Park Service

Notice of Inventory Completion: University of Oregon Museum of Natural History, Eugene, OR, and U.S. Department of Defense, Army Corps of Engineers, Portland District, Portland, OR

AGENCY: National Park Service, Interior.

ACTION: Notice.

Notice is here given in accordance with the Native American Graves Protection and Repatriation Act (NAGPRA), 25 U.S.C. 3003, of the completion of an inventory of human remains and associated funerary objects for which the University of Oregon Museum of Natural History, Eugene, OR, and the U.S. Department of Defense, Army Corps of Engineers, Portland District, Portland, OR, have joint responsibility. The human remains and associated funerary objects were removed from sites on Army Corps of Engineers land located in Morrow County, OR, and Benton, County, WA, within the John Day Dam project area.

This notice is published as part of the National Park Service's administrative responsibilities under NAGPRA, 25 U.S.C. 3003(d)(3). The determinations within this notice are the sole responsibility of the museum, institution, or Federal agency that has control of the Native American human remains and associated funerary objects. The National Park Service is not responsible for the determinations within this notice.

A detailed assessment of the human remains was made by the Army Corps of Engineers, Portland District and University of Oregon Museum of Natural History professional staff in consultation with representatives of the Confederated Tribes of the Umatilla Reservation, Oregon.

Native American cultural items described in this notice were excavated under Antiquities Act permits by the University of Oregon, Eugene, OR, on Army Corps of Engineers project lands. Following excavations at the sites described below, and under the provisions of the permits, the University of Oregon was allowed to retain the collections for preservation.

In 1958, human remains representing a minimum of one individual were removed from the Crow Butte site (45 BN 58), near Blalock Island, Benton County, WA, within the John Day Dam project area. No known individual was identified. The five associated funerary objects are three dentalium beads and two olivella beads.

The Crow Butte site is a campsite and burial site, and its dates of occupation are unknown. Based on the types of associated funerary objects and tooth wear, the individual has been determined to be Native American.

In 1963, human remains representing a minimum of four individuals were removed from the Eye site (45 BN 64), on Little Blalock Island, Benton County, WA, in the Columbia River, within the John Day Dam project area. No known individuals were identified. The two associated funerary objects are one projectile point and one shell bead.

The Eye site is a village and cemetery site dating after A.D. 1750. Based on the types of associated funerary objects, the individuals have been determined to be Native American.

In 1963, human remains representing a minimum of 12 individuals were removed from site 45 BN 77 on Coyote Island, Benton County, WA, in the Columbia River, within the John Day Dam project area. No known individuals were identified. The 874 associated funerary objects are 8 projectile points, 251 glass beads, 64 copper beads, 23 shell beads, 20 olivella beads, 214 shell and glass beads, 2 bone beads, 18 beads, 102 bones, 16 flakes, 103 pieces of glass, 34 pieces of copper, 3 copper pendants, 1 copper button, 1 graver, 1 scraper, 2 choppers, 2 flaked cobbles, 2 sinkers, 2 shells, 1 lot of raw material for beads, 2 shaft straighteners, 1 uniface, and 1 nail.

Site 45 BN 77 is a campsite and burial site that was occupied during the historic period. Based on the types of associated funerary objects, the individuals have been determined to be Native American.

In 1963, human remains representing a minimum of one individual were removed from site 45 BN 81 on Blalock Island, Benton County, WA, in the Columbia River within the John Day Dam project area. No known individual was identified. The 26 associated funerary objects are 10 glass beads, 14 shell beads, 1 piece of copper, and 1 copper button.

Site 45 BN 81 is a campsite and burial site dating to the protohistoric and historic periods. Based on the types of associated funerary objects, the human remains have been determined to be Native American.

In 1967, human remains representing a minimum of two individuals were removed from the Tom's Camp site (35 MW 10), 3 miles west of the former town of Boardman, Morrow County, OR, on the south bank of the Columbia River, in the John Day Dam project area. No known individuals were identified. No associated funerary objects are present.

The Tom's Camp site is a midden with burials dating from approximately 1800 B.P. to 500 B.P. Based on artifacts excavated in the general area, the individuals have been determined to be Native American.

The sites described above are within the traditional lands of the present-day Confederated Tribes of the Umatilla Indian Reservation, Oregon. The Confederated Tribes of the Umatilla Indian Reservation, Oregon was established by the Stevens Treaty of 1855 and consists of three tribes: Cayuse, Umatilla, and Walla Walla. All three tribes belong to the Sahaptin language group, each tribe's speaking a separate dialect of Sahaptin. Historically, these tribes occupied over 6 million acres of land in southeastern Washington and northeastern Oregon. The Umatilla Indian Reservation and ceded lands roughly include the areas bounded by the Columbia and Snake Rivers on the north to Willow Creek on the west to Tucannon River on the east.

Officials of the Army Corps of Engineers, Portland District have determined that, pursuant to 25 U.S.C. 3001(9), the human remains described above represent the physical remains of a minimum number of 20 individuals of Native American ancestry. Officials of the Army Corps of Engineers, Portland District also have determined that, pursuant to 25 U.S.C. 3001(3)(A), the 907 objects described above are reasonably believed to have been placed with or near individual human remains at the time of death or later as part of the death rite or ceremony. Lastly, officials of the Army Corps of Engineers, Portland District have determined that, pursuant to 25 U.S.C. 3001 (2), there is a relationship of shared group identity that can be reasonably traced between the Native American human remains and associated funerary objects and the Confederated Tribes of the Umatilla Indian Reservation, Oregon.

Representatives of any other Indian tribe that believes itself to be culturally affiliated with the human remains and associated funerary objects should contact Ms. Gail Celmer, NAGPRA Coordinator, Environmental Resources Branch, U.S. Department of Defense, Army Corps of Engineers, Portland District, P.O. Box 2946, Portland, OR 97208-2946, telephone (503) 808-4762, before November 7, 2003. Repatriation of the human remains and associated funerary objects to the Confederated Tribes of the Umatilla Indian Reservation, Oregon may proceed after that date if no additional claimants come forward.

The Army Corp of Engineers, Portland District is responsible for notifying the Confederated Tribes of the Umatilla Indian Reservation, Oregon that this notice has been published.

Date: August 7, 2003
John Robbins,
Assistant Director, Cultural Resources

[FR Doc. 03-25535 Filed 10-7-03; 8:45 am]

BILLING CODE 4310-70-S